DEPARTMENT OF JUSTICE

Drug Enforcement Administration

21 CFR Parts 1301, 1309, and 1316

[Docket No. DEA-438]

RIN 1117-AB36

Default Provisions for Hearing Proceedings Relating to the Revocation, Suspension, or Denial of a Registration; Correction

AGENCY: Drug Enforcement Administration, Department of Justice.

ACTION: Final rule.; correction.

SUMMARY: The Drug Enforcement Agency is correcting a rule that published November 14, 2022, in the Federal Register, to clarify the effective date is 30 days from the date the rule published.

DATES: Effective December 14, 2022.

FOR FURTHER INFORMATION CONTACT: Scott A. Brinks, Diversion Control Division, Drug Enforcement Administration; Mailing Address: 8701 Morrissette Drive, Springfield, VA 22152, Telephone: (571) 776-3882.

SUPPLEMENTARY INFORMATION: In FR doc. 2022-24425, which published Monday, November 14, 2022, at 87 FR 68036, make the following correction:

1. On page 68036 in the third column, correct the DATES section to read:

DATES: This rule is effective December 14, 2022.

Signing Authority

This document of the Drug Enforcement Administration was signed on [date of paper signature], by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Scott Brinks
Federal Register Liaison Officer, Drug Enforcement Administration.

[FR Doc. 2022-25823 Filed 11-28-22; 8:45 am]

BILLING CODE P